POSTAL SERVICE

Clarification of the Move Update Standard

AGENCY: Postal Service™.

ACTION: Notice.

SUMMARY: This notice provides information to clarify Move Update standards and to assist mailers in their compliance with those standards.

DATES: Effective: July 1, 2016.

FOR FURTHER INFORMATION CONTACT: Direct questions or comments to Charles B. Hunt by email at charles.b.hunt@usps.gov or phone (901) 681-4651.

SUPPLEMENTARY INFORMATION: The U.S. Postal Service (USPS®) receives recurring inquiries from the mailing industry relative to the standards for Move Update services. This notice is intended to clarify Move Update requirements in relation to discount mail preparation prices for all commercial mailers, including those authorized as 99 Percent Accurate and Legal Restraint customers.

Later in this document, inquiries from mailers and USPS responses are outlined to further clarify this notice.

Overview

Nearly 40 million people (or about 12 percent of the U.S. population) change their addresses each year. To minimize undeliverable and discarded mail, it is essential that mailing address lists are kept up-to-date. USPS Move Update services are designed for this purpose.

Move Update allows mailers to keep their mailing addresses current and reach their customers after they have moved, which ultimately leads to customer retention. Move Update is also critically important for Postal Service operational purposes, because massive amounts of undeliverable and discarded mail put a strain on the Postal Service, which translates to needless expenses and inefficiencies. In sum, Move Update is designed to reduce waste and associated expenses by improving the quality of mail address lists, which benefits both mailers and the Postal Service.

The Move Update standard applies to commercial mailings of presorted and automation First-Class Mail®, presorted First-Class Package Service®, Parcel Select Lightweight, and all Standard Mail® pieces. Mailers who present mixed mailings that pertain to at least one of the above mentioned categories are subject to the Move Update standard.

The Move Update standard requires mailers periodically to match their address records with the customer-filed, change-of-address (COA) orders maintained by the Postal Service. Mailers are required to reconcile their mailing address lists within 95 days of the postage statement finalization date or a surcharge will be assessed.

Move Update Methods

The Postal Service advises mailers to verify their mailing address lists at least every three months using one of the following USPS-approved Move Update methods:

National Change-of-Address Link (NCOALink ®).

National Change-of-Address Link Mail Processing Equipment (NCOALink MPE).

Ancillary Service Endorsement (ASE).

Address Change Service (ACS™).

Alternative Move Update Methods

Alternative Move Update methods include the 99 Percent Accurate Method (also known as Mailer Move Update Process Certification) and Legal Restraint Method. These two methods apply to First-Class Mail and First-Class Package Service only. A mailer's use of either method requires authorization from the National Customer Support Center (NCSC).

99 Percent Accurate Method

Mailers who can demonstrate that their internal list management maintains address quality at 99 percent or greater accuracy for COA may be authorized to comply with the Move Update standard through the 99 Percent Accurate Method.

The 99 Percent Accurate test is a computer-based process that performs Postal Service ZIP + 4® coding and COA processing utilizing the customer's file as input. The 99 Percent Accurate test is accomplished by submitting the mailer's address file(s) to the Postal Service for processing.

The purpose of the 99 Percent Accurate test is to determine whether 1 percent or less of the addresses on the mailer's list has a COA on file, and to identify addresses that do not have ZIP + 4 Codes.

Mailers who wish to use the 99 Percent Accurate Method to comply with the Move Update standard must submit an application for approval and adhere to the validation process outlined in the Guide to Move Update. The verification process takes approximately 7 to 10 business days.

Legal Restraint Method

When a legal restriction prevents mailers from updating their customer's address without direct contact from the customer, they can be authorized to use the Legal Restraint method to comply with the Move Update standard. To obtain authorization, the mailer must show that a particular law prohibits the mailer from using a primary method to meet the Move Update standard.

To use the Legal Restraint method, mailers must follow the following four-step process:

First, receive Postal Service COA information using one of the pre-approved methods within 95 days prior to the mailing.

Second, for each address identified as having a COA, adhere as follows: Contact the addressee within 30 days after receiving the COA information; request confirmation of the move in a format that will satisfy your legal requirements; and choose the format with which to receive confirmation from the addressee—written, telephoned, or electronic.

Third, incorporate all COA confirmations received in response to the second step into your system within 30 days of receiving confirmation from the customer. If any recipients indicate that the COA information is not to be used, the mailer should instruct them to contact their local post master to correct the COA information that has been filed with the Postal Service. The mailer may use the current address for 95 days from the date of address confirmation with the recipient.

Finally, keep documentation of the process described above for one year, including dates on which each step was performed, number of COA orders identified, number of confirmation requests, and evidence that demonstrates that updates have been incorporated into your system. Provide documentation to the Postal Service upon request. Be sure to keep records of all situations where the recipient indicated not to use the new address as not using the new address may affect your Move Update verification score during mail acceptance. Move Update processing must be done 95 days prior to mailing. Should there be any need to change the procedures outlined in your description, you are required to inform NCSC prior to making the change to retain authorization for the Legal Restraint method.

Mailers who are authorized for the Legal Restraint method must use an exclusive Mailer Identification (MID) or multiple exclusive MIDs for Legal Restraint mailings. This allows the Postal Service to properly identify these types of mailings and, where appropriate, exclude the mailings from the normal Seamless Acceptance Move Update compliance review. The mailer cannot use these MIDs for other types of mailings that do not fall under the Legal Restraint authorization. The USPS has already worked with the Legal Restraint mailers to identify these MIDs.

All current Legal Restraint authorized mailers will be allowed a one-year transition period to begin use of the exclusive MIDs. The one-year transition period is calculated starting from the date of their next annual Legal Restraint renewal, which is authorized by the Postal Service.

Existing Legal Restraint mailers who are able to implement the exclusive MIDs are encouraged to do so prior to the end of the one-year transition period. Any mailer seeking a new authorization for the Legal Restraint method will be required to use the exclusive MIDs upon approval.

Authorization for Legal Restraint

To acquire authorization to use the Legal Restraint method, the mailer must adhere to the following requirements:

Request authorization in writing.

Identify by citation the specific legal restriction.

Include copies of the statutes or regulations that prohibit the immediate use of COA information from a primary method of Move Update compliance.

Provide a flowchart and/or process description of the Move Update method currently being used and the related confirmation process.

This requirement applies to federal, state, and local government mailers.

Submit the request to the following USPS location: NCSC, 225 N Humphreys Blvd., Suite 501, Memphis, TN 38188-1001

Mailer Inquiries

Listed below are responses to some of the more common commercial mailer inquiries derived from ongoing Move Update dialogue.

Mailer Inquiry

Are mailpieces eligible for discounted mail preparation prices when the addresses are classified by the Postal Service as follows?

Moved, Left No Forwarding Address (MLNA)

P.O. Box Closed, No Forwarding Order (BCNO)

Foreign (new address is foreign)

USPS Response

Mailpieces bearing addresses that are classified by the Postal Service as MLNA, BCNO, or Foreign are exempt from the Move Update requirement. Therefore, these pieces are eligible for discounted mail preparation prices.

Mailer Inquiry

Are pieces where NCOALink returned a FN (footnote) 5, 14, or 19 (indicating a known move, but not providing the new address) eligible for discounted mail preparation rates?

USPS Response

When a mailer uses NCOALink as the Move Update method, there are situations when an input address may receive a Return Code of 5, 14, or 19, which indicates a COA was found. However, a new address could not be provided due to one of the following reasons for new address:

Ambiguous information

Unconfirmed primary number

No ZIP+4 Code

Only temporary COA filed

Run-time issues

In such cases, using the original input address for the mailing would satisfy the Move Update requirement towards qualification for discounted mail preparation prices.

Mailer Inquiry

Are mailpieces for which ACS returned a new address that fails Delivery Point Validation (DPV) and the mailer uses the original address, eligible for discounted mail preparation prices?

USPS Response

There are situations where the ACS method will provide a notification of a new address for the intended recipient that is not DPV. To satisfy the Move Update standard, all new addresses returned by the ACS method must be used to update the addresses used on future mailings. Electing to utilize the original address for the mailing, means the Move Update standard is not satisfied and the piece is ineligible for discounted mail preparation prices.

Mailer Inquiry

Are mailpieces eligible for discounted mail preparation prices when addresses include COA information that is more than 18 months old?

USPS Response

Each address used on mailpieces must be updated via an approved Move Update method within 95 days prior to the mailing date, as follows:

If the COA is older than 95 days, it is expected that the new address has been updated to the mailer's system for use on future mailings.

If the Move Update method that was used did not provide a match and new address because the COA data was not available, the mailer is considered to have satisfied the Move Update standard assuming that the mailer had properly performed the Move Update processing in a timeframe and configuration compliant with USPS-approved methods.

If the mailer obtained a new address before the COA was more than 18 months old and failed to update the address, the old address would not be compliant with the Move Update standard just because the COA had become more than 18 months old.

We will update the online version of the Guide to Move Update on RIBBS at https://ribbs.usps.gov/index.cfm? page=moveupdate to reflect all changes.

Stanley F. Mires,
Attorney, Federal Compliance.

[FR Doc. 2016-15648 Filed 6-30-16; 8:45 am]

BILLING CODE 7710-12-P